DEPARTMENT OF TRANSPORTATION

Federal Aviation Administration

14 CFR Part 71

[Docket No. FAA-2023-2051; Airspace Docket No. 23-ASO-38]

RIN 2120-AA66

Amendment of Class E Airspace; Statesboro, GA; Correction

AGENCY: Federal Aviation Administration (FAA), DOT.

ACTION: Final rule; correction.

SUMMARY: The FAA is correcting a final rule published in the Federal Register on December 27, 2023. The final rule amended Class E airspace extending upward from 700 feet above the surface for Statesboro-Bulloch County Airport, Statesboro, GA. This action corrects an error in the Class E legal description.

DATES: Effective 0901 UTC, March 21, 2024. The Director of the Federal Register approves this incorporation by reference action under 1 CFR part 51, subject to the annual revision of FAA Order JO 7400.11 and publication of conforming amendments.

ADDRESSES: FAA Order JO 7400.11H Airspace Designations and Reporting Points and subsequent amendments can be viewed online at www.faa.gov/air_traffic/publications/. For further information, contact the Rules and Regulations Group, Office of Policy, Federal Aviation Administration, 800 Independence Avenue SW, Washington, DC 20591; telephone: (202) 267-8783.

FOR FURTHER INFORMATION CONTACT: John Fornito, Operations Support Group, Eastern Service Center, Federal Aviation Administration, 1701 Columbia Avenue, College Park, GA 30337; Telephone: (404) 305-6364.

SUPPLEMENTARY INFORMATION:

History

The FAA published a final rule in the Federal Register on December 27, 2023 (88 FR 89292), for Docket No. FAA 2023-2051, amending Class E airspace extending upward from 700 feet above the surface for Statesboro-Bulloch County Airport, Statesboro, GA. After publication, the FAA found the Class E description listed the airport name incorrectly. This action corrects this error.

Correction to the Final Rule

In FR Doc 2023-28312 at 89293, published in the Federal Register on December 27, 2023, The FAA makes the following correction:

1. On page 89293, in the second column, correct the ASO GA E5 description for Statesboro, GA, to read as follows:

ASO GA E5 Statesboro, GA [Corrected]

Statesboro-Bulloch County Airport, GA

(Lat. 32°28′58″ N, long 81°44′13″ W)

That airspace extending upward from 700 feet above the surface within a 7.2-mile radius of Statesboro-Bulloch County Airport.

Issued in College Park, Georgia, on January 9, 2024
Andreese C. Davis,
Manager, Airspace & Procedures Team South, Eastern Service Center, Air Traffic Organization.

[FR Doc. 2024-00573 Filed 1-12-24; 8:45 am]

BILLING CODE 4910-13-P